DEPARTMENT OF HEALTH AND HUMAN SERVICES

Health Resources and Services Administration

Agency Information Collection Activities: Proposed Collection: Public Comment Request; Information Collection Request Title: The Maternal, Infant, and Early Childhood Home Visiting Program Performance Measurement Information System, OMB No. 0915-0017—Revision.

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than February 20, 2026.

ADDRESSES: Submit your comments to paperwork@hrsa.gov or mail the HRSA Information Collection Clearance Officer, Room 13N82, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at (301) 443-3983.

SUPPLEMENTARY INFORMATION: When submitting comments or requesting information, please include the ICR title for reference.

Information Collection Request Title: The Maternal, Infant, and Early Childhood Home Visiting Program Performance Measurement Information System, OMB No. 0915-0017—Revision.

Abstract: This request is for continued approval of the Maternal, Infant, and Early Childhood Home Visiting (MIECHV) Program Performance Measurement Information System. The MIECHV Program is administered by the Maternal and Child Health Bureau within HRSA in partnership with the Administration for Children and Families, and provides support to all 56 states and jurisdictions, as well as tribes and tribal organizations. Through a needs assessment, states, jurisdictions, tribes, and tribal organizations identify target populations and select the home visiting service delivery model(s) that best meet their needs. State and jurisdiction MIECHV funding recipients report annual demographic and performance data to HRSA through Form 1—Demographic Performance Measures and Form 2—Benchmark Performance Measures. MIECHV funding recipients also report program information on a quarterly basis through Form 4—Quarterly Data Collection (Currently approved under OMB No. 0906-0016). This ICR will now include Forms 1, 2, and 4, so all the components of data collection for the MIECHV Program in one request. OMB No. 0906-0016 will be discontinued after OMB approval of this ICR.

HRSA is revising the data collection forms for the MIECHV Program to reduce administrative burden where possible and to increase alignment with current clinical guidelines, evidence-based guidelines, and performance measures of other maternal and child health programs. HRSA proposes the following changes:

• Form 1 cross-cutting changes:

○ Remove new and continuing participant categories from Tables 4, 5, 18, 19, and 20.

○ Remove pregnant participant and caregiver categories for Table 9, 10, 11, and 18.

○ Add Section D: Place Based Services to collect, on an annual basis, information previously reported quarterly on Form 4.

○ Renumber tables as appropriate per other changes.

• Form 1, Tables 1 and 2: Combine Tables 1 and 2 into one table that captures new and continuing participants and households together.

• Form 1, Table 4: Decrease the number of response categories for age of adult participants from 10 to 6.

• Form 1, Tables 6 and 7: Update response categories to align with OMB's Statistical Policy Directive 15: Standards for Maintaining, Collecting and Presenting Federal Data on Race and Ethnicity.

• Form 1, Table 8: Remove this table from the data collection form.

• Form 1, Table 11: Streamline reporting for adult participants by housing status by decreasing “Not Homeless” data sub-categories from 5 to 1 and “Homeless” sub-categories from 3 to 2.

• Form 2, Performance Measure 3: Add a sub-measure to collect data on anxiety screening.

• Form 2, Performance Measure 5: Expand the postpartum visit window to within 12 weeks (84 days) of delivery.

• Form 2, Performance Measure 6: Update the measure definition of “tobacco use” to explicitly mention inclusion of e-tobacco use.

• Form 2, Performance Measure 7: Update the safe sleep measure to specify a 2-week lookback period for the reporting window.

• Form 2, Performance Measure 17: Add a sub-measure to collect data on completed anxiety referrals.

• Form 4, Table A2: Remove the table from Form 4; the table will be moved to Form 1.

• Form 4, Table A3: Remove this table from data collection.

• Forms 1, 2, and 4: Update Definition of Key Terms to reflect the changes.

Need and Proposed Use of the Information: HRSA uses performance information to demonstrate program accountability and continuously monitor and provide oversight to MIECHV Program awardees. The information is also used to provide quality improvement guidance and technical assistance to awardees and help inform the development of early childhood systems at the national, state, and local level. HRSA is seeking to revise and extend collection of (1) demographic, service utilization, and select clinical indicators for participants enrolled in home visiting services, and location of services (annually via Form 1); (2) a set of standardized performance and outcome indicators that correspond with the statutorily identified benchmark areas (annually via Form 2); and (3) home visiting program capacity and staffing data (quarterly via Form 4).

This information will be used to demonstrate awardees' compliance with legislative and programmatic requirements. It will also be used to monitor and provide continued oversight of awardee performance and target technical assistance resources for awardees. Revisions to the forms meet a statutory requirement to reduce administrative burden for MIECHV funding recipients (Section 511(h)(6)(A) of the Social Security Act). HRSA reviewed the information collected and streamlined, where possible, to collect the optimum amount of data necessary to fulfill awardee performance measurement and demonstration of improvement requirements. Additionally, other revisions have been made to align performance measures with other maternal and child health programs, with current Statistical Policy Directive 15 (Standards for Maintaining, Collecting, and Presenting Federal Data on Race and Ethnicity), and current clinical and evidence-based guidelines. The revisions reflect feedback from current MIECHV funding recipients, home visiting model developers, and federal partners.

Likely Respondents: MIECHV Program funding recipients that are states, jurisdictions, and, where applicable, nonprofit organizations providing home visiting services within states.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

HRSA updated the estimated burden hours based on data collected in summer 2024 under OMB No. 0906-0094, titled “Implement MIECHV Program 2022 Legislative Changes: Assessment of Administrative Burden.” The same group of 56 respondents will complete each form.

Total Estimated Annualized Burden Hours
Form name | Number of respondents | Number of responses per respondent | Total responses | Average burden per response (in hours) | Total burden hours
Form 1: Demographic, Service Utilization, and Select Clinical Indicators | 56 | 1 | 56 | 448 | 25,088
Form 2: Performance Indicators and Systems Outcome Measures | 56 | 1 | 56 | 723 | 40,488
Form 4: Section A—Quarterly Performance Report | 56 | 4 | 224 | 35 | 7,840
Total | 56 |  | 336 |  | 73,416

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2025-23571 Filed 12-19-25; 8:45 am]

BILLING CODE 4165-15-P